DEPARTMENT OF JUSTICE

Antitrust Division

Notice Pursuant to the National Cooperative Research and Production Act of 1993—Forum on Education Abroad, Inc.

Notice is hereby given that, on September 20, 2004, pursuant to Section 6(a) of the National Cooperative Research and Production Act of 1993, 15 U.S.C. 4301 et seq. (“the Act”), Forum on Education Abroad, Inc. (“Forum”) has filed written notifications simultaneously with the Attorney General and the Federal Trade Commission disclosing (1) the name and principal place of business of the standards development organization and (2) the nature and scope of its standards development activities. The notifications were filed for the purpose of invoking the Act's provisions limiting the recover of antitrust plaintiffs to actual damages under specified circumstances.

Pursuant to Section 6(b) of the Act, the name and principal place of business of the standards development organization is: Forum on Education Abroad, Inc., Northampton, MA. The nature and scope of Forum's standards development activities are: (1) To develop and present voluntary consensus standards for education abroad programs, for domestic colleges and universities and entities in other nations that provide or partner in providing education abroad programs for students from U.S. colleges and universities; and (2) to present standards and methods for assessing performance against the standards that can be used by the smallest and simplest organizations interested in self-improvement, through to the largest and most complex organizations in the education abroad field.

Dorothy B. Fountain,
Deputy Director of Operations, Antitrust Division.

[FR Doc. 04-26221 Filed 11-26-04; 8:45 am]

BILLING CODE 4416-11-M